DEPARTMENT OF AGRICULTURE

Submission for OMB Review; Comment Request

October 18, 2016.

The Department of Agriculture has submitted the following information collection requirement(s) to OMB for review and clearance under the Paperwork Reduction Act of 1995, Public Law 104-13. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 23, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Identifying Program Components and Practices that Influence SNAP Application Processing Timeliness Rates.

OMB Control Number: 0584-NEW.

Summary of Collection: The Food and Nutrition Act of 2008, as amended (the Act), Sections 11(e)(3) and 11(e)(9) requires that initial SNAP applications be processed and benefits provided within 30 days of the application date, or within 7 days for expedited applications.

Need and Use of the Information: FNS monitors compliance with statutory requirements through the SNAP Quality Control System (SNAP-QC). Results of these monitoring activities have indicated that a majority of States do not meet the acceptable performance criterion of a 95 percent application processing timeliness (APT) rate. The primary purpose of this study is to determine best practices for facilitating high APT rates, and to identify policy and procedural practices that hinder and facilitate high APT rates.

Description of Respondents: 51 State, Local or Tribal Government including the District of Columbia.

Number of Respondents: 360.

Frequency of Responses: Reporting: Annually.

Total Burden Hours: 536.

Ruth Brown,
Departmental Information Collection Clearance Officer.

[FR Doc. 2016-25556 Filed 10-21-16; 8:45 am]

BILLING CODE 3410-30-P